DEPARTMENT OF THE INTERIOR

Fish and Wildlife Service

[FWS-HQ-FAC-2020-N005; FXFR131109WFHS0-190-FF09F12000; OMB Control Number 1018-0078]

Agency Information Collection Activities; Submission to the Office of Management and Budget for Review and Approval; Injurious Wildlife; Importation Certification for Live Fish and Fish Eggs

AGENCY: Fish and Wildlife Service, Interior.

ACTION: Notice of information collection; request for comment.

SUMMARY: In accordance with the Paperwork Reduction Act of 1995, we, the U.S. Fish and Wildlife Service, are proposing to renew an information collection with revisions.

DATES: Interested persons are invited to submit comments on or before May 8, 2020.

ADDRESSES: Send written comments on this information collection request to the Office of Management and Budget's Desk Officer for the Department of the Interior by email at OIRA_Submission@omb.eop.gov; or via facsimile to (202) 395-5806. Please provide a copy of your comments to the Service Information Collection Clearance Officer, U.S. Fish and Wildlife Service, MS: PRB/PERMA (JAO1N), 5275 Leesburg Pike, Falls Church, VA 22041-3803 (mail); or by email to Info_Coll@fws.gov. Please reference OMB Control Number 1018-0078 in the subject line of your comments.

FOR FURTHER INFORMATION CONTACT: To request additional information about this ICR, contact Madonna L. Baucum, Service Information Collection Clearance Officer, by email at Info_Coll@fws.gov, or by telephone at (703) 358-2503. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

On October 3, 2019, we published a Federal Register notice with a 60-day public comment period soliciting comments on this collection of information (84 FR 52892). In that notice, we solicited comments for 60 days, ending on December 2, 2019. We received no comments in response to that notice.

We are again soliciting comments on the information collection request (ICR) that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Lacey Act (Act, 18 U.S.C. 42) prohibits the importation of any animal deemed to be and prescribed by regulation to be injurious to:

• Human beings;

• The interests of agriculture, horticulture, and forestry; or

• Wildlife or the wildlife resources of the United States.

Implementation and enforcement of the Lacy Act is the responsibility of the Department of the Interior. The 50 CFR 16.13 regulations allow for the importation of dead uneviscerated salmonids (family Salmonidae), live salmonids, live fertilized eggs, or gametes of salmonid fish into the United States. To effectively carry out our responsibilities and protect the aquatic resources of the United States, it is necessary to collect information regarding the source, destination, and health status of salmonid fish and their reproductive parts. In order to evaluate import requests that contain this data, it is imperative that the information collected is accurate. Those individuals who provide the fish health data and sign the health certificate must demonstrate professional qualifications, and be approved as Title 50 Certifiers by the Fish and Wildlife Service through an application process.

We use three forms to collect this Title 50 Certifier application information:

(1) FWS Form 3-2273 (Title 50 Certifying Official Form). New applicants and those seeking recertification as a title 50 certifying official provide information so that we can assess their qualifications.

(2) FWS Form 3-2274 (U.S. Title 50 Certification Form). Certifying officials use this form to affirm the health status of the fish or fish reproductive products to be imported.

(3) FWS Form 3-2275 (Title 50 Importation Request Form). We use the information on this form to ensure the safety of the shipment and to track and control importations.

With this submission, we updated FWS Forms 3-2273 and 3-2275 to clarify the information collected. We did not make any updates to Form 3-2274. We also plan to begin publishing, with OMB approval, the results of this information collection for Form 3-2273 on a publically accessible, Service-managed web page to inform importers of Certified Signing Officials by country of origin.

Title of Collection: Injurious Wildlife; Importation Certification for Live Fish and Fish Eggs (50 CFR 16.13).

OMB Control Number: 1018-0078.

Form Numbers: FWS Forms 3-2273, 3-2274, and 3-2275.

Type of Review: Revision of a currently approved collection.

Respondents/Affected Public: Aquatic animal health professionals seeking to be certified title 50 inspectors; certified title 50 inspectors who perform health certifications on live salmonids; and any entity wishing to import live salmonids or salmonid reproductive products into the United States.

Respondent's Obligation: Required to obtain or retain a benefit.

Frequency of Collection: On occasion.

Total Estimated Annual Nonhour Burden Cost: None.

Requirement | Annual number of respondents | Total annual responses | Completion time per response | Total annual burden hours
FWS Form 3-2273 (Title 50 Certifying Official Form):
Private Sector | 9 | 9 | 1 hour | 9
Government | 7 | 7 | 1 hour | 7
FWS Form 3-2274 (U.S. Title 50 Health Certification Form):
Private Sector | 10 | 20 | 30 minutes | 10
Government | 15 | 30 | 30 minutes | 15
FWS Form 3-2275 (Title 50 Importation Request Form):
Private Sector | 10 | 20 | 15 minutes | 5
Government | 15 | 30 | 15 minutes | 8
Totals | 66 | 116 |  | 54

An agency may not conduct or sponsor and a person is not required to respond to a collection of information unless it displays a currently valid OMB control number.

The authority for this action is the Paperwork Reduction Act of 1995 (44 U.S.C. 3501 et seq.).

Dated: April 3, 2020.
Madonna Baucum,
Information Collection Clearance Officer, U.S. Fish and Wildlife Service.

[FR Doc. 2020-07382 Filed 4-7-20; 8:45 am]

BILLING CODE 4333-15-P